DEPARTMENT OF ENERGY

Federal Energy Regulatory Commission

Combined Notice of Filings #1

Take notice that the Commission received the following electric rate filings:

Docket Numbers: ER11-4055-002; ER12-1566-002; ER12-1470-002; ER10-2977-002; ER11-3987-003; ER10-1290-003; ER10-2814-002; ER10-3026-002.

Applicants: Copper Mountain Solar 1, LLC, Copper Mountain Solar 2, LLC, Energia Sierra Juarez U.S., LLC, Mesquite Power, LLC, Mesquite Solar 1, LLC, San Diego Gas & Electric Company, Sempra Generation, Termoelectrica U.S. LLC.

Description: Second Supplement to December 31, 2012 Triennial Updated Market Power Analysis for the Southwest Region of Copper Mountain Solar 1, LLC, et al.

Filed Date: 6/19/13.

Accession Number: 20130619-5173.

Comments Due: 5 p.m. ET 7/10/13.

Docket Numbers: ER13-1729-000.

Applicants: Puget Sound Energy, Inc.

Description: OATT Order No. 1000 Compliance Filing 06-19-13 to be effective 12/31/9998.

Filed Date: 6/19/13.

Accession Number: 20130619-5143.

Comments Due: 5 p.m. ET 8/5/13.

Docket Numbers: ER13-1730-000.

Applicants: Avista Corporation.

Description: Avista Corp OATT Order 1000 Compliance Filing to be effective 12/31/9998.

Filed Date: 6/19/13.

Accession Number: 20130619-5144.

Comments Due: 5 p.m. ET 8/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2013.
Nathaniel J. Davis, Sr.,
Deputy Secretary.

[FR Doc. 2013-15388 Filed 6-26-13; 8:45 am]

BILLING CODE 6717-01-P